DEPARTMENT OF TRANSPORTATION

Federal Aviation Administration

14 CFR Part 39

[Docket No. FAA-2004-19442; Directorate Identifier 2004-CE-31-AD; Amendment 39-13956; AD 2005-01-11]

RIN 2120-AA64

Airworthiness Directives; Gippsland Aeronautics Pty. Ltd. Model GA8 Airplanes

AGENCY: Federal Aviation Administration (FAA), DOT.

ACTION: Final rule.

SUMMARY: The FAA adopts a new airworthiness directive (AD) for certain Gippsland Aeronautics Pty. Ltd. Model GA8 airplanes. This AD requires you to inspect the pilot and co-pilot control column wheels and aileron cable operating arm shafts for damage and, if damage is found, to repair the shafts or to replace the steel shafts with bronze shafts. We are issuing this AD to detect and correct damage of the pilot and co-pilot control wheels and aileron cable operating arm shafts. This damage could result in the aileron controls becoming stiff or locking, which could lead to loss of control of the airplane.

DATES: This AD becomes effective on March 4, 2005.

As of March 4, 2005, the Director of the Federal Register approved the incorporation by reference of certain publications listed in the regulation.

ADDRESSES: To get the service information identified in this AD, contact Gippsland Aeronautics Pty. Ltd., Latrobe Regional Airport, P.O. Box 881, Morwell, Victoria 3840, Australia; telephone: 61 (0) 3 5172 1200; facsimile: 61 (0) 3 5172 1201. To review this service information, go to the National Archives and Records Administration (NARA). For information on the availability of this material at NARA, go to: http://www.archives.gov/federal_register/code_of_federal_regulations/ibr_locations.html or call (202) 741-6030.

To view the AD docket, go to the Docket Management Facility; U.S. Department of Transportation, 400 Seventh Street, SW., Nassif Building, Room PL-401, Washington, DC 20590-001 or on the Internet at http://dms.dot.gov. The docket number is FAA-2004-19442.

FOR FURTHER INFORMATION CONTACT: Doug Rudolph, Aerospace Engineer, Small Airplane Directorate, ACE-112, 901 Locust, Room 301, Kansas City, Missouri 64106; telephone: 816-329-4059; facsimile: 816-329-4090.

SUPPLEMENTARY INFORMATION:

Discussion

What events have caused this AD? The Civil Aviation Safety Authority (CASA), which is the airworthiness authority for Australia, recently notified FAA that an unsafe condition may exist on certain Gippsland Aeronautics Pty. Ltd. Model GA8 airplanes. CASA reports three occurrences of aileron control stiffness and one occurrence of aileron control locking during taxi. Rubbing between the control wheel shaft and the bush in the control column may cause wear or damage to the control wheel shaft where the shaft connects to the control column. This damage may lead to the aileron control becoming stiff or locking.

What is the potential impact if FAA took no action? Damage of the pilot and co-pilot control wheels and aileron cable operating arm shafts could result in the aileron controls becoming stiff or locking, which could lead to loss of control of the airplane.

Has FAA taken any action to this point? We issued a proposal to amend part 39 of the Federal Aviation Regulations (14 CFR part 39) to include an AD that would apply to certain Gippsland Aeronautics Pty. Ltd. Model GA8 airplanes. This proposal was published in the Federal Register as a notice of proposed rulemaking (NPRM) on November 8, 2004 (69 FR 64695). The NPRM proposed to detect and correct damage of the pilot and co-pilot control wheels and aileron cable operating arm shafts that could result in the aileron controls becoming stiff or locking, which could lead to loss of control of the airplane.

Comments

Was the public invited to comment? We provided the public the opportunity to participate in developing this AD. We received no comments on the proposal or on the determination of the cost to the public.

Conclusion

What is FAA's final determination on this issue? We have carefully reviewed the available data and determined that air safety and the public interest require adopting the AD as proposed except for minor editorial corrections. We have determined that these minor corrections:

—Are consistent with the intent that was proposed in the NPRM for correcting the unsafe condition; and

—Do not add any additional burden upon the public than was already proposed in the NPRM.

Changes to 14 CFR Part 39—Effect on the AD

How does the revision to 14 CFR part 39 affect this AD? On July 10, 2002, the FAA published a new version of 14 CFR part 39 (67 FR 47997, July 22, 2002), which governs the FAA's AD system. This regulation now includes material that relates to altered products, special flight permits, and alternative methods of compliance. This material previously was included in each individual AD. Since this material is included in 14 CFR part 39, we will not include it in future AD actions.

Costs of Compliance

How many airplanes does this AD impact? We estimate that this AD affects 5 airplanes in the U.S. registry.

What is the cost impact of this AD on owners/operators of the affected airplanes? We estimate the following costs to accomplish the inspection:

Labor cost | Parts cost | Total cost per airplane | Total cost on U.S. operators
2 work hours × $65 per hour = $130 | N/A | $130 | $650

We estimate the following costs to accomplish any necessary replacements that would be required based on the results of this inspection. We have no way of determining the number of airplanes that may need this repair/replacement:

Labor cost | Parts cost | Total cost per airplane
Labor Cost per side (either pilot or co-pilot)—8 work hours × $65 per hour = $520 | Warranty | Per side = $520. For both sides = $1,040.

Authority for This Rulemaking

What authority does FAA have for issuing this rulemaking action? Title 49 of the United States Code specifies the FAA's authority to issue rules on aviation safety. Subtitle I, section 106 describes the authority of the FAA Administrator. Subtitle VII, Aviation Programs, describes in more detail the scope of the agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “Docket No. FAA-2004-19442; Directorate Identifier 2004-CE-31-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2005-02-11 Gippsland Aeronautics Pty. Ltd.: Amendment 39-13956; Docket No. FAA-2004-19442; Directorate Identifier 2004-CE-31-AD.

When Does This AD Become Effective?

(a) This AD becomes effective on March 4, 2005.

What Other ADs Are Affected by This Action?

(b) None.

What Airplanes Are Affected by This AD?

(c) This AD affects model GA8 airplanes, serial numbers GA8-00-004 through GA8-04-056, that are certificated in any category.

What Is the Unsafe Condition Presented in This AD?

(d) This AD is the result of rubbing between the control wheel shaft and the bush in the control column, which may cause wear or damage to the control wheel shaft where the shaft connects to the control column. This damage may lead to the aileron control becoming stiff or locking. The actions specified in this AD are intended to detect and correct damage of the pilot and co-pilot control wheels and aileron cable operating arm shafts that could result in the aileron controls becoming stiff or locking, which could lead to loss of control of the airplane.

What Must I Do To Address This Problem?

(e) To address this problem, you must do the following:

Actions | Compliance | Procedures
(1) Inspect the pilot and co-pilot control column wheel and aileron cable operating arm shafts for damage | Perform the initial inspection within 50 hours time-in-service (TIS) after March 4, 2005 (the effective date of this AD) | Follow Gippsland Aeronautics Pty. Ltd. Service Bulletin SB-GA8-2004-11, Issue 2, dated August 25, 2004.
(2) If no damage is found, continue repetitive inspections | Perform repetitive inspections every 300 hours TIS until steel operating arm shafts are replaced with bronze operating arm shafts. Replacement of steel operating arm shafts with bronze operating arm shafts is terminating action for this AD on the side that was replaced. If one steel shaft requires replacement, all of the shafts on that side (pilot or co-pilot) must be replaced with bronze shafts. If only one side (pilot or co-pilot) is replaced, repetitive inspections are still required for the side that was not replaced | Follow Gippsland Aeronautics Pty. Ltd. Service Bulletin SB-GA8-2004-11, Issue 2, dated August 25, 2004.
(3) For airplanes where damage is found: (i) If damage can be repaired by polishing out marks or scratches so that material removed does not exceed 0.005 inches, repair the shaft. You can not repair by polishing out marks or scratches more than one time. (ii) If damage can not be repaired by polishing out marks or scratches so that that material removed does not exceed 0.005 inches or you have already repaired the damage by polishing out marks or scratches previously, the damed steel operating arm shaft must be replaced with a bronze operating arm shaft. When a shaft (pilot or co-pilot) requires replacement, you must install new bronze shafts in all areas of the affected side | If damage is found, repair or replace operating arm shafts prior to further flight. If airplane is repaired, repetitively inspect every 300 hours TIS after repair until replacement of the operating arm shafts. Replacement of the steel operating arm shafts with bronze operating arm shafts is terminating action for this AD. If only one side (pilot or co-pilot) is replaced with bronze shafts, you must still repetitively inspect the other side that was not replaced | Follow Gippsland Aeronautics Pty. Ltd. Service Bulletin SB-GA8-2004-11, Issue 2, dated August 25, 2004.
(4) As of the effective date of this AD, do not install shafts that are not bronze on any affected Model GA8 airplane | As of March 4, 2005 (the effective date of this AD) | Follow Gippsland Aeronautics Pty. Ltd. Service Bulletin SB-GA8-2004-11, Issue 2, dated August 25, 2004.

May I Request an Alternative Method of Compliance?

(f) You may request a different method of compliance or a different compliance time for this AD by following the procedures in 14 CFR 39.19. Unless FAA authorizes otherwise, send your request to your principal inspector. The principal inspector may add comments and will send your request to the Manager, Standards Office, Small Airplane Directorate, FAA. For information on any already approved alternative methods of compliance, contact Doug Rudolph, Aerospace Engineer, Small Airplane Directorate, ACE-112, 901 Locust, Room 301, Kansas City, Missouri 64106; telephone: 816-329-4059; facsimile: 816-329-4090.

Is There Other Information That Relates to This Subject?

(g) Australian Civil Aviation Safety Authority Airworthiness Directive AD/GA8/2, dated September 17, 2004, and Gippsland Aeronautics Pty., Ltd., Service Bulletin SB-GA8-2004-11, dated August 25, 2004, also address the subject of this AD.

Does This AD Incorporate Any Material by Reference?

(h) You must do the actions required by this AD following the instructions in Gippsland Aeronautics Pty. Ltd. Service Bulletin SB-GA8-2004-11, Issue 2, dated August 25, 2004. The Director of the Federal Register approved the incorporation by reference of this service bulletin in accordance with 5 U.S.C. 552(a) and 1 CFR part 51. To get a copy of this service information, contact Gippsland Aeronautics Pty. Ltd., Latrobe Regional Airport, P.O. Box 881, Morwell, Victoria 3840, Australia; telephone: 61 (0) 3 5172 1200; facsimile: 61 (0) 3 5172 1201. To review copies of this service information, go to the National Archives and Records Administration (NARA). For information on the availability of this material at NARA, go to: http://www.archives.gov/federal_register/code_of_federal_regulations/ibr_locations.html or call (202) 741-6030. To view the AD docket, go to the Docket Management Facility; U.S. Department of Transportation, 400 Seventh Street, SW., Nassif Building, Room PL-401, Washington, DC 20590-001 or on the Internet at http://dms.dot.gov. The docket number is FAA-2004-19442.

Issued in Kansas City, Missouri, on January 20, 2005.
David A. Downey,
Acting Manager, Small Airplane Directorate, Aircraft Certification Service.

[FR Doc. 05-1511 Filed 1-28-05; 8:45 am]

BILLING CODE 4910-13-P